FEDERAL MINE SAFETY AND HEALTH REVIEW COMMISSION

Sunshine Act Meeting

November 12, 2003.

TIME AND DATE: 10 a.m., Thursday, December 4, 2003.

PLACE: Hearing Room, 9th Floor, 601 New Jersey Avenue, NW., Washington, DC.

STATUS: Open.

MATTERS TO BE CONSIDERED: The Commission will consider and act upon the following in open session:

Secretary of Labor v. Georges Colliers, Inc., Docket No. EAJ 2002-02. (Issues include whether the petition for review by Georges Colliers, Inc. was timely filed; whether the issues raised on brief by Georges Colliers, Inc. exceeded the scope of its petition; and whether the judge erred in denying the application made by Georges Colliers, Inc. for fees and expenses under the Equal Access to Justice Act, 5 US.C.. 504 et seq.)

Any person attending this meeting who requires special accessibility features and/or auxiliary aids, such as sign language interpreters, must inform the Commission in advance of those needs. Subject to 29 CFR 2706.150(a)(3) and 2706.160(d).

FOR FURTHER INFORMATION CONTACT: Jean Ellen, (202) 434-9950, (202) 708-9300 for TDD Relay, 1-800-877-8339 for toll free.

Jean H. Ellen,
Chief Docket Clerk.

[FR Doc. 03-29146 Filed 11-18-03; 11:51 am]

BILLING CODE 6735-01-M